DEPARTMENT OF COMMERCE

National Oceanic and Atmospheric Administration

[I.D. 121500A]

Western Pacific Fishery Management Council; Public Meeting

AGENCY: National Marine Fisheries Service (NMFS), National Oceanic and Atmospheric Administration (NOAA), Commerce.

ACTION: Notice of public meeting.

SUMMARY: The Western Pacific Fishery Management Council will convene a public meeting of its precious corals plan team to discuss Council issues in relation to precious coral quotas in the Hawaiian Exploratory Area.

DATES: The meeting will be held January 5, 2001, from 9-11 a.m.

ADDRESSES: The meeting will be held at the Western Pacific Fishery Management Council office conference room, telephone (808) 522-8220.

Council Address: Western Pacific Fishery Management Council, 1164 Bishop Street, Suite 1400, Honolulu, HI 96813.

FOR FURTHER INFORMATION CONTACT: Kitty M. Simonds, Executive Director; telephone (808) 522-8220.

SUPPLEMENTARY INFORMATION: The Plan Team will discuss and may make recommendations to the Council on the agenda items below. The order in which the agenda items will be addressed is tentative. The agenda will be as follows:

A. Introduction

B. Review of the 107th Council Meeting

C. Estimation of gold coral growth rates

D. Adjustment of the Hawaiian Exploratory Area quota

E. Other Business

F. Summary of Recommendations

Although non-emergency issues not contained in this agenda may come before this Council for discussion, in accordance with the Magnuson-Stevens Fishery Conservation and Management Act, those issues may not be the subject of formal Council action during this meeting. Action will be restricted to those issues specifically listed in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Dated: December 15, 2000.
Richard W. Surdi,
Acting Director, Office of Sustainable Fisheries, National Marine Fisheries Service.

[FR Doc. 00-32425 Filed 12-19-00; 8:45 am]

BILLING CODE: 3510-22-S